DEPARTMENT OF THE INTERIOR

National Park Service

[N6915; NPS-WASO-NAGPRA-NPS0041988; PPWOCRADN0-PCU00RP14.R50000]

Notice of Intended Repatriation: Mount Holyoke College Art Museum, South Hadley, MA

AGENCY: National Park Service, Interior.

ACTION: Notice.

SUMMARY: In accordance with the Native American Graves Protection and Repatriation Act (NAGPRA), the Mount Holyoke College Art Museum intends to repatriate certain cultural items that meet the definition of sacred objects and that have a cultural affiliation with the Indian Tribes or Native Hawaiian organizations in this notice.

DATES: Repatriation of the cultural items in this notice may occur on or after March 13, 2026.

ADDRESSES: Send additional, written requests for repatriation of the cultural items in this notice to Abigail Hoover, Associate Director of Registration and Collections, Mount Holyoke College Art Museum, Lower Lake Road, South Hadley, MA 01075, email ahoover@mtholyoke.edu.

SUPPLEMENTARY INFORMATION: This notice is published as part of the National Park Service's administrative responsibilities under NAGPRA. The determinations in this notice are the sole responsibility of the Mount Holyoke College Art Museum, and additional information on the determinations in this notice, including the results of consultation, can be found in the summary or related records. The National Park Service is not responsible for the determinations in this notice.

Abstract of Information Available

A total of 14 cultural items have been requested for repatriation. The 14 sacred objects are one pōhaku ku`i ai (poi pounder), one lei niho palaoa (whale tooth pendant necklace), one lot of three pieces of kapa (bark cloth), eight kapa (bark cloth), one hoe (carved paddle), one lot of makaloa (reeds), and one kapa (bark cloth) book.

There is no available information for the acquisition history of the pōhaku ku'i ai (poi pounder), three pieces of kapa (bark cloth), and the makaloa (reeds). One piece of kapa was donated by Olive Beeman of South Hadley, MA. One piece of kapa was donated by Mrs. Arthur E. Richardson of Springfield, MA. According to available documentation, various cultural items were donated by individuals, including Mary Ella Spooner Brown, Julia Brooks Spaulding, Persis Thurston, and Dwight Baldwin, working as missionaries in the Hawaiian Islands in the nineteenth century. The group of three kapa and one piece of kapa are recorded as having belonged to Bernice Pauahi Pākī Bishop, and one piece of kapa donated in 1857 is recorded as having belonged to an unnamed “Queen of the Sandwich Islands.” Most of the above cultural items were formally transferred from the Mount Holyoke College Archives and Special Collections to the Mount Holyoke College Art Museum in 2003. The book made of kapa is in the collection of the Joseph Allen Skinner Museum at Mount Holyoke College, but the source and date of acquisition of the book are unknown. There are no available records indicating whether or not any potentially hazardous substances were used to treat any of these cultural items.

Determinations

The Mount Holyoke College Art Museum has determined that:

• The 14 sacred objects described in this notice are specific ceremonial objects needed by a traditional Native American religious leader for present-day adherents to practice traditional Native American religion, according to the Native American traditional knowledge of a Native Hawaiian organization.

• There is a connection between the cultural items described in this notice and Hui Iwi Kuamo'o.

Requests for Repatriation

Additional, written requests for repatriation of the cultural items in this notice must be sent to the authorized representative identified in this notice under ADDRESSES. Requests for repatriation may be submitted by any lineal descendant or Native Hawaiian organization not identified in this notice who shows, by a preponderance of the evidence, that the requestor is a lineal descendant or a culturally affiliated Native Hawaiian organization.

Repatriation of the cultural items in this notice to a requestor may occur on or after March 13, 2026. If competing requests for repatriation are received, the Mount Holyoke College Art Museum must determine the most appropriate requestor prior to repatriation. Requests for joint repatriation of the cultural items are considered a single request and not competing requests. The Mount Holyoke College Art Museum is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02708 Filed 2-10-26; 8:45 am]

BILLING CODE 4312-52-P